Title 3—

The President

Executive Order 13510 of July 1, 2009

Waiver Under the Trade Act of 1974 With Respect to the Republic of Belarus

By the authority vested in me as President by the Constitution and the laws of the United States of America, including subsection 402(c)(2) of the Trade Act of 1974, as amended (the “Act”) (19 U.S.C. 2432(c)(2)), which continues to apply to the Republic of Belarus pursuant to subsection 402(d) of the Act (19 U.S.C. 2432(d)), and having made the report to the Congress set forth in subsection 402(c)(2), I hereby waive the application of subsections (a) and (b) of section 402 of the Act with respect to the Republic of Belarus.

THE WHITE HOUSE,

July 1, 2009.

[FR Doc. E9-16034

Filed 7-2-09; 11:15 am]

Billing code 3195-W9-P